CORPORATION FOR NATIONAL AND COMMUNITY SERVICE

Notice of Sunshine Act Meeting

The National Civilian Community Corps Advisory Board gives notice of the following meeting:

Date and Time: Wednesday, November 1, 2006, 9:30 a.m.-1:30 p.m.

Place: Lobby Conference Room, Corporation for National and Community Service Headquarters, 1201 New York Avenue, NW., Washington, DC 20525.

Status: Open.

Matters to be Considered: The purpose of the meeting is to update Advisory Board members on program activities, including the NCCC's past and current efforts in the New Orleans and Gulf Coast areas. The Board will also discuss strategies concerning the NCCC's future campus structure, and operational activities for the upcoming classes, including a major mobilization in the Gulf Coast.

Accommodations: Anyone who needs an interpreter or other accommodation should notify the Corporation's contact person by 5 p.m. Friday, October 27, 2006.

FOR FURTHER INFORMATION CONTACT: Erma Hodge, NCCC, Corporation for National and Community Service, 10th Floor, Room 10404A, 1201 New York Avenue NW., Washington, DC 20525. Phone (202) 606-6696. Fax (202) 606-3462. TDD: (202) 606-3472. E-mail: ehodge@cns.gov.

Dated: October 17, 2006.
Frank R. Trinity,
General Counsel.

[FR Doc. 06-8832 Filed 10-18-06; 3:36 pm]

BILLING CODE 6050-$$-P